LEGAL SERVICES CORPORATION

Notice and Request for Comments: LSC Merger of Service Areas in Louisiana

AGENCY: Legal Services Corporation.

ACTION: Notice and Request for Comments—LSC merger of the two service areas covering the south-central and southeastern region of Louisiana.

SUMMARY: The Legal Services Corporation (LSC) intends to merge the two service areas that cover the twelve counties of the south-central region of Louisiana (including Baton Rouge) and the ten counties of the southeastern region of the state (including New Orleans). Grants for these individual service areas have been awarded to Southeast Louisiana Legal Services Corporation (SLLSC) since 2011. For 2014, LSC awarded SLLSC three-year grants for these two service areas. LSC intends to merge the two service areas into one service area and to award one grant for the new combined service area. Doing so will harmonize the grant structure with the current delivery model.

DATES: All comments must be received on or before the close of business on March 12, 2014.

ADDRESSES: Written comments may be submitted to LSC by email to competition@lsc.gov (this is the preferred option); by submitting a form online at http://www.lsc.gov/contact-us; by mail to Legal Services Corporation, 3333 K Street NW., Third Floor, Washington, DC 20007, Attention: Reginald Haley; or by fax to 202-337-6813.

FOR FURTHER INFORMATION CONTACT: Reginald J. Haley, Office of Program Performance, Legal Services Corporation, 3333 K Street NW., Washington, DC 20007; or by email at haleyr@lsc.gov.

SUPPLEMENTARY INFORMATION: The mission of LSC is to promote equal access to justice and to provide funding for high-quality civil legal assistance to low-income persons. Pursuant to its statutory authority, LSC designates service areas in U.S. states, territories, possessions, and the District of Columbia for which it provides grants to legal aid programs to provide free civil legal services.

The LSC Act charges LSC with ensuring that “grants and contracts are made so as to provide the most economical and effective delivery of legal assistance to persons in both urban and rural areas.” 42 U.S.C. 2996f(a)(3). Merging the two Louisiana service areas will provide an economical and effective delivery approach for serving the legal needs of the low-income population and will harmonize the grant structure with the current delivery model.

LSC provides grants through a competitive bidding process, which is regulated by 45 CFR Part 1634. In 2013, LSC implemented a competitive grants process for 2014 calendar year funding that included, inter alia, these Louisiana service areas. For 2014, LSC awarded SLLSC three-year grants for both of these service areas. LSC intends to merge the two service areas into a single service area and merge the 2014 grants for those service areas into a single grant beginning March 21, 2014.

LSC invites public comment on this decision. Interested parties may submit comments to LSC no later than the close of business on March 12, 2014. More information about LSC can be found at: http://www.lsc.gov.

Dated: February 5, 2014.
Atitaya C. Rok,
Staff Attorney.

[FR Doc. 2014-02810 Filed 2-7-14; 8:45 am]

BILLING CODE 7050-01-P